DEPARTMENT OF TRANSPORTATION

Federal Highway Administration

Environmental Impact Statement: Municipality of Anchorage, Alaska

AGENCY: Federal Highway Administration (FHWA) and Alaska Department of Transportation and Public Facilities (ADOT&PF).

ACTION: Notice of intent.

SUMMARY: The FHWA is issuing this notice to advise the public that an environmental impact statement (EIS) will be prepared for the West Dowling Road Connection Project located in the Municipality of Anchorage, Alaska.

FOR FURTHER INFORMATION CONTACT: Edrie Vinson, Environmental Project Manager, Federal Highway Administration, P O Box 21648, Juneau, AK 99802, (907) 586-7464 or Miriam Tanaka, P.E. Project Manager, ADOT&PF, Box 196900, Anchorage, AK 99519, (907) 269-0546.

SUPPLEMENTARY INFORMATION: The FHWA, in cooperation with the ADOT&PF, will prepare an EIS for the West Dowling Road Connection Project. The ADOT&PF has identified the need to enhance roadway connectivity and construct accessibility improvements in the West Dowling Road Connection Project area. The arterial network in the project area is poorly connected. Of the roads that are classified as arterials, none connect east-west across the project area. The road network that does exist (minor arterials and collectors that feed traffic to the arterials) is discontinuous, which limits accessibility and mobility within and through the project area. East-west barriers to through traffic in the project area are Campbell Creek, the Alaska Railroad tracks, and the controlled-access freeways (New Seward Highway and Minnesota Drive). Because of the limited roadway connections, accessibility is a concern of emergency service providers. For the land uses within the project area, the incomplete road network often results in long and circuitous trip patterns. The lack of connectivity also hampers neighborhood access to residential areas and truck access to industrial areas. These problems add to traffic congestion on the adjacent street network. The project is identified in Anchorage's long-range transportation plan. As such, the improvement is an important component of maintaining compliance with federal carbon monoxide (CO) standards (Anchorage was recently reclassified from nonattainment to maintenance for CO).

A number of alternatives have been identified through a planning and scoping process. The EIS will examine the No-Build alternative and three build alternatives.

Project planning for the West Dowling Road Connection Project has been underway since 2002 with preliminary engineering and a public and agency scoping process. Stakeholder interviews held in August of 2002 provided an early, informal opportunity to meet with agency representatives to assess their expectations for involvement and to begin identifying agency-specific issues/concerns regarding the project. An initial round of public and agency scoping meetings was held on October 30, 2002. The second set of public and agency scoping meetings was held on May 14, 2003. A scoping summary report summarizing the public and agency scoping was published in November of 2003 and is available at the following Web site: http://www. dowlingroad.com.

Based on project issues and on public and agency involvement to date, the FHWA has determined an EIS is required. Official notice of agency and public scoping for the EIS will be issued in the near future. A public hearing will be held following the publication of the Draft EIS. Notice of the availability of the Draft EIS and date and location of the hearing will be published in the Federal Register and in the Anchorage Daily News. Comments or questions concerning this proposed action and the EIS should be directed to the FHWA address provided above.

(Catalog of Federal Domestic Assistance Program Number 20.205, Highway Research, Planning and Construction. The regulations implementing Executive Order 12372 regarding intergovernmental consultation on Federal programs and activities apply to this program.)
Issued on: September 28, 2004.
David C. Miller,
Division Administrator, Juneau, Alaska.

[FR Doc. 04-22533 Filed 10-6-04; 8:45 am]

BILLING CODE 4910-22-M